DEPARTMENT OF THE INTERIOR

Fish and Wildlife Service

Information Collection Submitted to the Office of Management and Budget (OMB) for Renewal Under the Paperwork Reduction Act; Special Use Permit Applications for National Wildlife Refuges in Alaska

AGENCY: Fish and Wildlife Service, Interior.

ACTION: Notice; request for comments.

SUMMARY: The U.S. Fish and Wildlife Service has submitted a request to OMB to renew approval, under the provisions of the Paperwork Reduction Act of 1995, of the collection of information for special use permit applications on national wildlife refuges in Alaska. An estimate of the information collection requirement is included with this notice.

DATES: You must submit comments on or before September 2, 2003.

ADDRESSES: Submit your comments on this information collection renewal to the Desk Officer for the Department of the Interior at OMB-OIRA via facsimile or e-mail using the following fax number or e-mail address: (202) 395-5806 (fax); ruth_solomon@omb.eop.gov (e-mail). Please provide a copy of your comments to the Fish and Wildlife Service's Information Collection Clearance Officer, 4401 N. Fairfax Dr., MS 222 ARLSQ, Arlington, VA 22207; (703) 358-2269 (fax); or anissa_craghead@fws.gov (e-mail).

FOR FURTHER INFORMATION CONTACT: To request a copy of the information collection request, explanatory information, or related forms, contact Anissa Craghead at (703) 358-2445; or electronically to anissa_craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We submitted the following request to OMB to renew approval of the collection of information needed for special use permit applications for national wildlife refuges in Alaska. OMB has up to 60 days to approve or disapprove this information collection but may respond after 30 days. To ensure maximum consideration, send your comments to OMB by the date listed in the DATES section near the beginning of this notice. We may not conduct or sponsor, and a person is not required to respond to, a collection of information unless it displays a currently valid OMB control number.

On February 14, 2003, we published a notice in the Federal Register (68 FR 7578) inviting the public to comment on this information collection. We did not receive any comments.

The National Wildlife Refuge Administration Act of 1966, as amended (16 U.S.C. 668dd-ee) (Administration Act) authorizes us to permit uses, including commercial visitor services, on national wildlife refuges only when we find the activity to be compatible with the purposes for which the refuge was established. The National Wildlife Refuge System Improvement Act of 1997 (Pub. L. 105-57) (Improvement Act) amended the Administration Act and established “organic legislation” for the National Wildlife Refuge System with a unifying mission. It also modified the process for determining compatible uses on refuges and required that we determine the use of refuge lands to be compatible with the mission of the Refuge System, as well as the refuge purposes. We published proposed regulations for determining if a use is compatible in the Federal Register on September 9, 1999 (64 FR 49056), along with a draft compatibility policy.

The Alaska National Interest Lands Conservation Act (ANILCA) (16 U.S.C. 3101 et seq.) was signed into law on December 2, 1980. Its broad purpose is to provide for the disposition and use of a variety of federally owned lands in Alaska. Section 303 of ANILCA established the purposes for each Alaska refuge, and Section 304 requires that all uses we authorize on Alaska refuges first be found to be compatible with the refuge purposes. You can find regulations for administering special use permits on Alaska refuges in 50 CFR part 36.41.

Section 810 of ANILCA (16 U.S.C. 3120) requires that we evaluate the effect of any proposed use of refuge lands on subsistence uses and needs in determining whether to permit such uses. It restricts us from permitting a use which would significantly restrict subsistence uses unless we give notice to the appropriate State agency and local committees and regional councils, hold a hearing in the vicinity of the area involved, and determine that such a restriction of subsistence uses is necessary, is consistent with sound management principles, is for the utilization of public lands, will involve the minimum amount of public lands necessary, and will include reasonable steps to minimize adverse impacts.

Sections 1303 and 1315 of ANILCA (16 U.S.C. 3193; 3203-3204) allow the Secretary of Interior to permit construction, use, and occupancy of cabins in national wildlife refuges in Alaska under certain conditions. Section 1303(b)(3) of ANILCA states that we will issue no special use permits for cabins unless the permit applicant provides certain items of information. You can find regulations issued to implement these provisions in 50 CFR part 36.33.

Section 1307 of ANILCA (16 U.S.C. 3197) contains two provisions concerning persons and entities to whom we are to give special rights and preferences with respect to providing “visitor services” on refuges in Alaska. Section 1307 defines “visitor services,” as “* * * any service made available for a fee or charge to persons who visit a conservation system unit, including such services as providing food, accommodations, transportation, tours and guides, excepting the guiding of sport hunting and fishing.” You may find regulations issued to implement these activities in 50 CFR part 36.37.

We will provide the permit applications as requested by interested Alaska citizens. We will use information provided on the required written forms and/or verbal applications to determine if the proposed activity is compatible with refuge purposes and to ensure that the applicant is eligible for a permit, or in the case of competitively awarded permits, we will use the information to determine the most qualified applicant to receive benefits of a refuge permit. In the case of permits awarded under section 1307 of ANILCA, we will use the information to determine whether the applicant is: A member of a Native Corporation; a local resident; and/or was engaged in adequately providing visitors services on or before January 1, 1979; or is eligible to receive Cook Inlet Region rights.

We make provision in our general refuge regulations for public entry for specialized purposes, including economic activities such as the operation of guiding and other visitor services on refuges by concessionaires or cooperators under appropriate contracts or legal agreements (found in 50 CFR part 25.61) or special use permits (found in 50 CFR parts 36.37, 36.41, 26.22(b) and 26.25). These rules provide the authorities and procedures for selecting permittees on Alaska refuges, the vast majority of which are providers of services and facilities to the public. We will issue permits for a specific period as determined by the type and location of the use or visitor service provided.

We have made several minor revisions to the special use permit application form we use for Alaska refuges (USFWS Form 3-2001), and we explain the changes as follows:

1. On the page one, item 2, we added the phrase, “* * * and are not inconsistent with public safety” to the end of the first sentence to be consistent with Service regulations and policy requirements that we consider public safety, as well as the other factors listed, before authorizing uses on national wildlife refuges.

2. On page one, item 3, we corrected the last sentence to state that permit applicants must provide their social security number or taxpayer identification number for activities subject to collection of fees by the Service, and we provided the legal citation for this requirement.

3. On page one, item 6, we modified the first sentence to reflect our revised estimates of the public reporting burden.

4. On page 2, we modified the application to provide the applicant the option to provide his/her taxpayer identification number or social security number.

5. On page 2, we requested “valid dates” for the alternate phone number.

6. On page 3, we replaced a confusing table with a list of Alaska refuges and types of uses in order to simplify the application. On the revised application, the applicant only needs to identify the refuge and the proposed activities applicable to his/her application by marking with an “X” on the lists provided on the application form. By eliminating the table, we also provided more space on the application to provide a description and location of the proposed activity or use.

7. We rearranged the permit information required on page 4 into a more logical sequence and format in order to simplify the application. We also added a statement of reference to an enclosed Insurance Information Sheet for minimum insurance requirements.

8. On page 5, item 14, we added language to clarify that we need copies of only those State or Federal licenses, certifications, and registrations that are required for the activity the applicant proposes to conduct on the refuge.

In addition to the revisions identified above, we made a few minor editorial changes to the application form for clarification and plain language requirements. The editorial changes do not affect the information requirements of the application.

We revised the estimated number of respondents reported in the Federal Register notice published on February 14, 2003 (68 FR 7578), but we did not revise our estimated number of responses or our total annual burden estimate. We previously estimated the annual number of respondents (applicants) to be the same as the number of responses (applications). We reduced the estimated number of applicants because many individuals submit separate applications for different types of activities and/or for difference refuges.

Title: Special Use Permit Applications for National Wildlife Refuges in Alaska.

OMB Control Number: 1018-0014.

Service Form Number: 3-2001.

Frequency of collection: On occasion.

Description of the respondents: Individuals and households; business and other for-profit institutions; farms; and State, local or Tribal governments.

Total Annual Number of respondents (applicants): 200.

Total Annual Number of responses (applications): 350 (180 competitive permit applications and 170 non-competitive permit applications).

Information Collection Burden Estimate:

Type of permit application | Annual number of responses | Completion time (hours) | Annual burden (hours)
Competitively issued permit | 180 | 30 | 5,400
Non-competitively issued permit | 170 | 1.5 | 255
Combined Total | 350 |  | 5,655

We invite comments concerning this renewal on: (1) Whether the collection of information is necessary for the proper performance of our functions, including whether the information will have practical utility; (2) The accuracy of our estimate of the burden of the collection of information; (3) Ways to enhance the quality, utility, and clarity of the information to be collected; and (4) Ways to minimize the burden of the collection of information on respondents. This information collection is part of a system of record covered by the Privacy Act (5 U.S.C. 552(a)).

Dated: July 28, 2003.
Anissa Craghead,
Information Collection Officer, Fish and Wildlife Service.

[FR Doc. 03-19491 Filed 7-30-03; 8:45 am]

BILLING CODE 4310-55-P